DEPARTMENT OF AGRICULTURE

Forest Service

McSutten Decision Area; Kootenai National Forest, Lincoln County, MT

AGENCY: Forest Service, USDA.

ACTION: Notice of intent to prepare an environmental impact statement.

SUMMARY: The USDA-Forest Service will prepare an Environmental Impact Statement to disclose the environmental effects of timber harvest, prescribed burning, and road management in the McSutten Decision Area (Decisions Area) on the Rexford Ranger District of the Kootenai National Forest. The Decision Area is located approximately 12 miles southwest of Eureka, Montana.

DATES: Written comments and suggestions should be postmarked or received within 30 days following publication of this notice.

ADDRESSES: Written comments and suggestions concerning the scope of the analysis should be sent to Glen M. McNitt, District Ranger, Rexford Ranger District, 1299 U.S. Highway 93 N, Eureka, MT 59917.

FOR FURTHER INFORMATION CONTACT: Contact Chris Fox, Interdisciplinary Team Leader, Rexford Ranger District. Phone: (406) 296-7155.

SUPPLEMENTARY INFORMATION: The Decision Area contains approximately 62,200 acres of land within the Kootenai National Forest. Proposed activities within the Decision Area include all or portions of the following areas: T32-35N, R27-29W, PMM, Lincoln County, Montana.

All proposed activities are outside the boundaries of any roadless area or any areas considered for inclusion to the National Wilderness System as recommended by the Kootenai National Forest Plan or by any past or present legislative wilderness proposals.

Purpose and Need: The purpose and need for the project is: (1) Reduce fuel accumulations to decrease the likelihood that fires would become large stand-replacing wildfires; (2) restore characteristic vegetation patterns (patch sizes and stand structure) on the landscape; (3) increase habitat for wildlife species that utilize early vegetative stages and maintain huckleberry fields over time to provide foraging opportunities for wildlife and provide for social needs; (4) provide a transportation system that increases security for big game, reduces impacts to aquatic resources, improves riparian wildlife habitat, and insures economical and safe access; and (5) respond to the social and economic needs of the public.

Proposed Activities: The Forest Service proposes to use regeneration harvest (clearcut and seedtree prescriptions) on approximately 3,376 acres, and commercial thinning on approximately 3,299 acres.

The proposed action would result in 40 openings over 40 acres, ranging from 41 to 175 acres. A 60-day public review period, and approval by the Regional Forester for exceeding the 40-acre limitation for regeneration harvest, would be required prior to the signing of the Record of Decision. This 60-day period is initiated with this notice of intent.

The proposed action includes approximately 6,675 acres of underburning following timber harvest, and approximately 1,033 acres of prescribed burning without timber harvest.

The proposed action also includes maintenance activities on portions of approximately 193 miles of road to meet Best Management Practices; decommissioning approximately six miles of roads currently restricted year-long to motor vehicles; placing approximately five miles of roads, which are currently restricted year-long to motor vehicles, in storage; and reconstructing approximately one mile of existing road.

Forest Plan Amendments: The proposed action includes a project-specific Forest Plan amendment necessary to meet the project's objectives:

An amendment to allow harvest in 41 units adjacent to existing openings in Management Area (MA) 12 (Big Game Summer Range). The amendment would be needed to suspend Wildlife and Fish Standard #7 and Timber Standard #2 for this area. These standards state that movement corridors and adjacent hiding cover be retained. The resulting opening sizes more closely correlate to natural disturbance patterns. Snags and down woody material would be left to provide wildlife habitat and maintain soil productivity.

A second amendment to allow the open road density in MA 12 (Big Game Summer Range) to be managed at greater than 0.75 miles/square mile during project implementation may be required. The amendment would be necessary to suspend Facilities Standard #3, which states that open road density should be maintained at 0.75 miles/square mile.

Range of Alternatives: The Forest Service will consider a range of alternatives. One of these will be the “no action” alternative, in which none of the proposed activities will be implemented. Additional alternatives will be considered to achieve the project's purpose and need for action, and to respond to specific resource issues and public concerns.

Public Involvement and Scoping: In January 2004, efforts were made to involve the public in considering management opportunities within the Decision Area. A scoping package was mailed for public review on January 30, 2004. An open house was held on February 18, 2004. Comments received prior to this notice will be included in the documentation for the EIS.

Estimated Dates for Filing: While public participation in this analysis is welcome at any time, comments received within 30 days of the publication of this notice will be especially useful in the preparation of the Draft EIS (DEIS). The DEIS is expected to be filed with the Environmental Protection Agency (EPA) and to be available for public review by June 2004. At that time EPA will publish a Notice of Availability (NOA) of the DEIS in the Federal Register. The comment period on the DEIS will be 45 days from the date the EPA publishes the NOA in the Federal Register. It is very important that those interested in the management of this area participate at that time.

The final EIS (FEIS) is scheduled to be completed by August 2004. In the FEIS, the Forest Service is required to respond to comments and responses received during the comment period that pertain to the environmental consequences discussed in the DEIS, and applicable laws, regulations, and policies considered in making a decision regarding the proposal.

Reviewer's Obligations: The Forest Service believes it is important to give reviewers notice of several court rulings related to public participation in the environmental review process. First, reviewers of DEIS' must structure their participation in the environmental review of the proposal so that it is meaningful and alerts an agency to the reviewer's position and contentions. Vermont Yankee Nuclear Power Corp. v. NRDC, 435 U.S.C 519, 553 (1978). Also, environmental objections that could be raised at the draft environmental impact statement stage may be waived or dismissed by the courts. City of Angoon v. Hodel, 803, F.2d 1016, 1022 (9th Cir. 1986) and Wisconsin Heritages, Inc. v. Harris, 490 F. Supp. 1334, 1338 (E.D. Wis. 1980). Because of these court rulings, it is very important that those interested in this Proposed Action participate by the class DEIS 45 day comment period so that substantive comments and objections are made available to the Forest Service at a time when it can meaningfully consider and respond to them in the FEIS.

To be most helpful, comments on the DEIS should be as specific as possible, and may address the adequacy of the statement or the merit of the alternatives discussed. Reviewers may wish to refer to the Council on Environmental Quality regulations (40 CFR 1503.3) for implementing the procedural provisions of the National Environmental Policy Act.

Responsible Official: As the Forest Supervisor of the Kootenai National Forest, 1101 U.S. Highway 2 West, Libby, MT 59923, I am the Responsible Official. As the Responsible Official, I will decide if the proposed project will be implemented. I will document the decision and reasons for the decision in the Record of Decision. I have delegated the responsibility for preparing the DEIS and FEIS to Glen M. McNitt, District Ranger, Rexford Ranger District.

Dated: March 23, 2004.
Bob Castaneda,
Forest Supervisor, Kootenai National Forest.

[FR Doc. 04-7362 Filed 3-31-04; 8:45 am]

BILLING CODE 3410-71-M